ENVIRONMENTAL PROTECTION AGENCY

[FRL-6868-7]

Proposed Administrative Cost Recovery Settlement Under Section 122(i) of the Comprehensive Environmental Response, Compensation and Liability Act, as Amended (CERCLA), Hastings Ground Water Contamination Site, FAR-MAR-CO Subsite

AGENCY: Environmental Protection Agency.

ACTION: Notice; request for public comment.

SUMMARY: In accordance with Section 122(i) of the Comprehensive Environmental Response, Compensation, and Liability Act, as amended (“CERCLA”), 42 U.S.C. 9266(i), notice is hereby given of a proposed administrative settlement for recovery of past response costs concerning the Hastings Ground Water Contamination Site—FAR-MAR-CO Subsite in and around Hastings, Nebraska with the following settling party: Morrison Enterprises. The settlement requires the settling party to pay $603,292 to the Hazardous Substance Superfund. The settlement includes a covenant not to sue the settling party pursuant to Section 107(a) of CERCLA, 42 U.S.C. 9607(a). For thirty (30) days following the date of publication of this notice, the Agency will receive written comments relating to the settlement. The Agency will consider all comments and may modify or withdraw its consent to the settlement if comments received disclose facts or considerations which indicate that the settlement is inappropriate, improper, or inadequate. The Agency's response to any comments received will be available for public inspection at the Hastings Public Library, 517 W. Fourth Street, Hastings, Nebraska and 901 N. 5th Street, Kansas City, Kansas, Docket No. CERCLA-7-2000-0027.

DATES: Comments must be submitted on or before October 16, 2000.

ADDRESSES: The proposed settlement is available for public inspection at 901 N. 5th Street, Kansas City, Kansas. A copy of the proposed settlement may be obtained from the Regional Hearing Clerk, 901 N. 5th Street, Kansas City, Kansas, (913) 551-7567. Comments should reference the Hastings Ground Water Contamination Site, FAR-MAR-CO Subsite and EPA Docket No. CERCLA-7-2000-0027 and should be addressed to Audrey Asher, Senior Assistant Regional Counsel, 901 N. 5th Street, Kansas City, Kansas 66101.

FOR FURTHER INFORMATION CONTACT: Audrey Asher at (913) 551-7255.

Dated: August 25, 2000.
William Rice,
Acting Regional Administrator, United States Environmental Protection Agency, Region VII.

[FR Doc. 00-23647 Filed 9-13-00; 8:45 am]

BILLING CODE 6560-50-M